DEPARTMENT OF THE TREASURY

Internal Revenue Service

26 CFR Part 1

[REG-113007-99]

RIN 1545-AU98

Obligations of States and Political Subdivisions

AGENCY: Internal Revenue Service (IRS), Treasury.

ACTION: Cancellation of notice of public hearing on proposed rulemaking.

SUMMARY: This document provides notice of cancellation of a public hearing on proposed regulations relating to the definition of private activity bond applicable to tax-exempt bonds issued by State and local governments.

DATES: The public hearing originally scheduled for Tuesday, September 9, 2003, at 10 a.m., is cancelled.

FOR FURTHER INFORMATION CONTACT: Treena Garrett of the Publications and Regulations Branch, Legal Processing Division, Associate Chief Counsel (Procedure and Administration), (202) 622-3401 (not a toll-free number).

SUPPLEMENTARY INFORMATION: A notice of proposed rulemaking and notice of public hearing that appeared in the Federal Register on Wednesday, May 14, 2003, (68 FR 25845), announced that a public hearing was scheduled for Tuesday, September 9, 2003, at 10 a.m. in the Auditorium, Internal Revenue Service Building, 1111 Constitution Avenue, NW., Washington, DC. The subject of the public hearing is proposed regulations under section 141 of the Internal Revenue Code. The public comment period for these proposed regulations expired on Tuesday, August 19, 2003. Outlines of oral comments were due on Tuesday, August 19, 2003.

The notice of proposed rulemaking and notice of public hearing, instructed those interested in testifying at the public hearing to submit an outline of the topics to be addressed. As of Thursday, August 28, 2003, no one has requested to speak. Therefore, the public hearing scheduled for Tuesday, September 9, 2003, is cancelled.

Cynthia E. Grigsby,
Acting Chief, Publications and Regulations Branch, Legal Processing Division, Associate Chief Counsel (Procedure and Administration).

[FR Doc. 03-22554 Filed 9-3-03; 8:45 am]

BILLING CODE 4830-01-P